SMALL BUSINESS ADMINISTRATION

[Declaration of Disaster #3318]

State of Mississippi

As a result of the President's major disaster declaration on February 23, 2001, I find that Holmes, Lowndes and Oktibbeha Counties in the State of Mississippi constitute a disaster area due to damages caused by Severe Storms and Tornadoes on February 16, 2001. Applications for loans for physical damage as a result of this disaster may be filed until the close of business on April 24, 2001 and for economic injury until the close of business on November 23, 2001 at the address listed below or other locally announced locations: U.S. Small Business Administration, Disaster Area 2 Office, One Baltimore Place, Suite 300, Atlanta, GA 30308.

In addition, applications for economic injury loans from small businesses located in the following contiguous counties in Mississippi may be filed until the specified date at the above location: Attala, Carroll, Choctaw, Clay, Humphreys, Leflore, Madison, Monroe, Noxubee, Webster, Winston and Yazoo; Lamar and Pickens counties in the State of Alabama.

The interest rates are:

| Percent
For Physical Damage:
Homeowners With Credit Available Elsewhere | 7.000
Homeowners Without Credit Available Elsewhere | 3.500
Businesses With Credit Available Elsewhere | 8.000
Businesses and Non-Profit Organizations Without Credit Available Elsewhere | 4.000
Others (Including Non-Profit Organizations) With Credit Available Elsewhere | 7.000
For Economic Injury:
Businesses and Small Agricultural Cooperatives Without Credit Available Elsewhere | 4.000

The number assigned to this disaster for physical damage is 331811. For economic injury the number is 9K8300 for Mississippi, and 9K8400 for Alabama.

(Catalog of Federal Domestic Assistance Program Nos. 59002 and 59008).

Dated: February 26, 2001.
Herbert L. Mitchell,
Associate Administrator, For Disaster Assistance.

[FR Doc. 01-5332 Filed 3-5-01; 8:45 am]

BILLING CODE 8025-01-U